INTERNATIONAL TRADE COMMISSION

[Investigation No. 337-TA-1401]

Certain Firearm Disassembly Tongs; Notice of a Commission Determination Not To Review an Initial Determination Granting a Joint Motion To Terminate the Investigation Based on a Settlement Agreement; Termination of the Investigation

AGENCY: International Trade Commission.

ACTION: Notice.

SUMMARY: Notice is hereby given that the U.S. International Trade Commission (“Commission”) has determined not to review an initial determination (“ID”) (Order No. 9) of the chief administrative law judge (“CALJ”) granting a joint motion to terminate the investigation based on a settlement agreement. The investigation is terminated in its entirety.

FOR FURTHER INFORMATION CONTACT: Edward S. Jou, Esq., Office of the General Counsel, U.S. International Trade Commission, 500 E Street SW, Washington, DC 20436, telephone (202) 205-3316. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on May 20, 2024, based upon a complaint filed on behalf of GTUL LLC (“Complainant”) of Cedar Point, North Carolina. 89 FR 43873-74 (May 20, 2024). The complaint, as amended, alleges violations of section 337 based upon the importation into the United States, the sale for importation, and the sale within the United States after importation of certain firearm disassembly tongs by reason of infringement of certain claims of U.S. Patent No. 8,739,915. The Commission's notice of investigation named as respondents OFFROADCALI of Livermore, California; ROADRUNNERMATERIALS SPR GROUP INC of Livermore, California; DRP-California of Livermore, California; Eurasiaparts Automotive Parts of Temecula, California; Brementech of Antioch, California; and MTCPARTS.COM of Livermore, California (collectively, “Respondents”). The Office of Unfair Import Investigations (“OUII”) is also a party in this investigation.

On July 18, 2024, Complainant and Respondents filed a joint motion (the “Motion”) to terminate the investigation on the basis of a confidential settlement agreement. On July 26, 2024, OUII filed a response noting that the Motion failed to comply with the Commission Rules requiring a public version of the settlement agreement. On July 29, 2024, the CALJ denied the Motion with leave to refile. Order No. 8 (July 29, 2024). On August 1, 2024 and August 2, 2024, Complainant and Respondents notified the CALJ that they no longer maintained that their settlement agreement was confidential. See ID at 2.

On August 16, 2024, the CALJ issued the subject ID granting the Motion. The CALJ found that the Motion complied with the requirements of 19 CFR 210.21(b)(1). ID at 2. The CALJ also found that “any effect that terminating this investigation on the basis of settlement may have on the statutory public interest factors does not counsel against entry of the order.” Id. at 3. The subject ID was issued publicly with the settlement agreement attached as Exhibit A. Id. at Exhibit A. No petitions for review of the subject ID were filed.

The Commission has determined not to review the subject ID. The investigation is hereby terminated in its entirety.

The Commission vote for this determination took place on September 9, 2024.

The authority for the Commission's determination is contained in section 337 of the Tariff Act of 1930, as amended (19 U.S.C. 1337), and in Part 210 of the Commission's Rules of Practice and Procedure (19 CFR part 210).

By order of the Commission.
Issued: September 9, 2024.
Lisa Barton,
Secretary to the Commission.

[FR Doc. 2024-20719 Filed 9-11-24; 8:45 am]

BILLING CODE 7020-02-P